DEPARTMENT OF THE INTERIOR

Performance Review Board Appointments

AGENCY: Department of the Interior.

ACTION: Notice of Performance Review Board Appointments.

SUMMARY: This notice provides the names of individuals who have been appointed to serve as members of the Department of the Interior Performance Review Board.

DATES: These appointments are effective September 19, 2001.

FOR FURTHER INFORMATION CONTACT: Shirley Schell, Department of the Interior, Office of Personnel Policy, 1849 C Street, NW., Washington, DC 20240, Telephone Number (202) 208-7274.

2001 SES Performance Review Board

The following Senior Executive Service members have been appointed to serve on the Department of the Interior 2001 Performance Review Board:

James C. Douglas, Assistant Special Trustee for American Indians

Paul Smyth, Deputy Associate Solicitor (Land and Water Resources

Hugo Tuefel, III, Associate Solicitor (General Law)

William D. Bettenberg, Deputy Director, Office of Policy Analysis

Charles E. Breece, Principal Deputy Director, Office of Hearings and Appeals

Dolores L. Chacon, President DOI University—National Business Center

Carolyn Cohen, Director, Office of Personnel Policy

Debra Sonderman, Director, Office of Acquisition and Property Management

Timothy G. Vigotsky, Director, National Business Center

Scott J. Cameron, Deputy Assistant Secretary for Performance & Management

Joseph E. Doddridge, Staff Assistant

J. Lynn Smith, Human Resources Program Manager

Katherine H. Stevenson, Assoc Director—Cultural Stewardship and Partnership

Robyn Thorson, Assistant Director—External Affairs

Denise E. Sheehan, Assistant Director—Budget, Planning and Human Resources

J. William McDonald, Regional Director—Pacific Northwest Reg

Maryanne Bach, Regional Director, Great Plains Region

Robert W. Johnson, Regional Director—Lower Colorado

Stephen V. Magnussen, Deputy Director, Operations West

Larry L. Todd, Director, Operations

Earnest B. Brunson, Regional Geographer—Eastern Region

John A. Kelmelis, Associate Division Chief for Science

Bonnie A. McGregor, Regional Director—Easter Region

Stanley Ponce, Physical Scientist (Senior Liaison for Interagency Pgms)

Henri R. Bisson, Assistant Director—Renewable Resources and Planning

Gayle F. Gordon, State Director—Eastern States

Ann J. Morgan, State Director, Colorado

W. Hord Tipton, III, Assistant Director—Information Resource Management

Thomas A. Readinger, Deputy Associate Director Offshore

Robert E. Brown, Associate Director for Administration and Budget

Richard J. Seibel, Special Assistant to the Director

James H. McDivitt, Deputy Assistant Secretary—Indian Affairs for Policy, Mgt and Budget

William A. Sinclair, Director, Office of Self-Governance

Lawrence Morrin, Area Director, Minneapolis

Terrance L. Virden, Director, Office of Trust Responsibilities

Dated: September 13, 2001.
Carolyn Cohen,
Director of Personnel Policy.

[FR Doc. 01-23338 Filed 9-18-01; 8:45 am]

BILLING CODE 4310-10-P